SURFACE TRANSPORTATION BOARD

[Docket No. FD 36020]

Norfolk Southern Railway Company—Trackage Rights Exemption—Southern Electric Railroad Company

Southern Electric Railroad Company (SERC), pursuant to a written trackage rights agreement,¹ has agreed to grant Norfolk Southern Railway Company (NS) restricted overhead trackage rights over SERC's mainline, between milepost 0.0 and milepost 0.6 in the vicinity of Jefferson County, Ala., a distance of approximately 0.6 miles.

¹ A redacted version of the draft trackage rights agreement between SERC and NS was filed with the notice. NS states that an unredacted version of the agreement will be provided to any requesting party upon the issuance by the Board of an appropriate protective order. NS also states that it will submit an executed copy of the agreement within 10 days of its execution, pursuant to 49 CFR 1180.6(a)(7)(ii).

The transaction may be consummated on May 11, 2016, the effective date of the exemption (30 days after the exemption was filed).

NS states that the proposed trackage rights will allow NS to access four private storage tracks (APC Storage Yard) to serve the James H. Miller, Jr. Electric Generating Plant owned by Alabama Power Company near West Jefferson, in Jefferson County, Ala.

As a condition to this exemption, any employees affected by the trackage rights will be protected by the conditions imposed in Norfolk & Western Railway—Trackage Rights—Burlington Northern, Inc., 354 I.C.C. 605 (1978), as modified in Mendocino Coast Railway—Lease & Operate—California Western Railroad, 360 I.C.C. 653 (1980).

This notice is filed under 49 CFR 1180.2(d)(7). If the notice contains false or misleading information, the exemption is void ab initio. Petitions to revoke the exemption under 49 U.S.C. 10502(d) may be filed at any time. The filing of a petition to revoke will not automatically stay the effectiveness of the exemption. Petitions for stay must be filed by May 4, 2016 (at least seven days before the exemption becomes effective).

An original and 10 copies of all pleadings, referring to Docket No. FD 36020, must be filed with the Surface Transportation Board, 395 E Street SW., Washington, DC 20423-0001. In addition, a copy of each pleading must be served on Aarthy S. Thamodaran, Norfolk Southern Corporation, Three Commercial Place, Norfolk, VA 23510.

According to NS, this action is categorically excluded from environmental review under 49 CFR 1105.6(c).

Board decisions and notices are available on our Web site at “WWW.STB.DOT.GOV.”

Decided: April 22, 2016.
By the Board, Rachel D. Campbell, Director, Office of Proceedings.
Tia Delano,
Clearance Clerk.

[FR Doc. 2016-09815 Filed 4-26-16; 8:45 am]

BILLING CODE 4915-01-P